DEPARTMENT OF ENERGY

Federal Energy Regulatory Commission

Combined Notice of Filings #2

Take notice that the Commission received the following electric corporate filings:

Docket Numbers: EC18-11-000.

Applicants: Cogen Technologies Linden Venture, L.P., East Coast Power Linden Holding, L.L.C.

Description: Application Under FPA Section 203 of Cogen Technologies Linden Venture, L.P., et al.

Filed Date: 10/27/17.

Accession Number: 20171027-5171.

Comments Due: 5 p.m. ET 11/17/17.

Take notice that the Commission received the following exempt wholesale generator filings:

Docket Numbers: EG18-10-000.

Applicants: CXA La Paloma, LLC.

Description: Self-Certification of EWG Status of CXA La Paloma, LLC.

Filed Date: 10/27/17.

Accession Number: 20171027-5180.

Comments Due: 5 p.m. ET 11/17/17.

Docket Numbers: EG18-11-000.

Applicants: APV Renaissance Opco, LLC.

Description: Notice of Self-Certification of EWG Status for APV Renaissance Opco, LLC.

Filed Date: 10/27/17.

Accession Number: 20171027-5185.

Comments Due: 5 p.m. ET 11/17/17.

Take notice that the Commission received the following electric rate filings:

Docket Numbers: ER11-3697-000.

Applicants: Southern California Edison Company.

Description: Informational Filing of Notice of Revision to Formula Transmission Rate Annual Update of Southern California Edison Company.

Filed Date: 10/27/17.

Accession Number: 20171027-5117.

Comments Due: 5 p.m. ET 11/17/17.

Docket Numbers: ER16-1256-001.

Applicants: Panda Liberty LLC.

Description: Report Filing: Refund Report [EL16-90] to be effective N/A.

Filed Date: 10/27/17.

Accession Number: 20171027-5210.

Comments Due: 5 p.m. ET 11/17/17.

Docket Numbers: ER16-1766-002.

Applicants: Midcontinent Independent System Operator, Inc.

Description: Compliance filing: 2017-10-27_Amendment to RSG Compliance filing to be effective 4/1/2011.

Filed Date: 10/27/17.

Accession Number: 20171027-5113

Comments Due: 5 p.m. ET 11/17/17.

Docket Numbers: ER16-1958-000.

Applicants: Panda Patriot LLC.

Description: Report Filing: Refund Report [EL16-103] to be effective N/A.

Filed Date: 10/27/17.

Accession Number: 20171027-5213.

Comments Due: 5 p.m. ET 11/17/17.

Docket Numbers: ER18-176-000.

Applicants: Public Service Company of Colorado.

Description: § 205(d) Rate Filing: 20171027_Rush Creek Production Filing to be effective 1/1/2018.

Filed Date: 10/27/17.

Accession Number: 20171027-5127.

Comments Due: 5 p.m. ET 11/17/17.

Docket Numbers: ER18-177-000.

Applicants: Liberty Utilities (CalPeco Electric) LLC.

Description: Compliance filing: Resolution of Billing Error Refile to be effective N/A.

Filed Date: 10/27/17.

Accession Number: 20171027-5201.

Comments Due: 5 p.m. ET 11/17/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 27, 2017.
Nathaniel J. Davis, Sr.,
Deputy Secretary.

[FR Doc. 2017-23850 Filed 11-1-17; 8:45 am]

BILLING CODE 6717-01-P